DEPARTMENT OF COMMERCE

International Trade Administration

[A-533-840]

Certain Frozen Warmwater Shrimp from India; Partial Rescission of Antidumping Duty Administrative Review

AGENCY: Import Administration, International Trade Administration, Department of Commerce.

SUMMARY: The Department of Commerce (the Department) is rescinding the administrative reviews of the antidumping duty order on certain frozen warmwater shrimp from India for the period February 1, 2006, through January 31, 2007, for 114 companies, based on: 1) timely withdrawals of the review requests; 2) confirmed statements of no shipments during the period of review (POR); 3) our inability to locate certain companies; and/or 4) duplicated names in our notice of initiation.

EFFECTIVE DATE: February 1, 2008.

FOR FURTHER INFORMATION CONTACT: Elizabeth Eastwood, AD/CVD Operations, Office 2, Import Administration, International Trade Administration, U.S. Department of Commerce, 14th Street and Constitution Avenue, NW, Washington, DC 20230; telephone: (202) 482-3874.

SUPPLEMENTARY INFORMATION:

Background

On February 2, 2007, the Department published in the Federal Register a notice of opportunity to request an administrative review of the antidumping duty order on certain frozen warmwater shrimp from India for the period February 1, 2006, through January 31, 2007. See Antidumping or Countervailing Duty Order, Finding, or Suspended Investigation; Opportunity To Request Administrative Review, 72 FR 5007 (Feb. 2, 2007). Between February 21, 2007, and February 28, 2007, in accordance with 19 CFR 351.213(b)(2), certain Indian producers and exporters requested a review of this antidumping duty order. In addition, on February 28, 2007, the petitioner>¹ and the Louisiana Shrimp Association (LSA) also requested an administrative review for numerous Indian exporters of subject merchandise in accordance with 19 CFR 351.213(b)(1).

¹ The petitioner in this proceeding is the Ad Hoc Shrimp Trade Action Committee.

On March 17, 2007, in accordance with 19 CFR 351.213(d)(1), the petitioner withdrew its request for review for the following companies: 1) Amison Foods Ltd.; 2) Amison Seafoods Ltd.; 3) Baby Marine (Eastern) Exports; 4) Baby Marine Exports; 5) Baby Marine Products; 6) Cherukattu Industries (Marine Div.); 7) Global Sea Foods & Hotels Ltd.; 8) HA & R Enterprises; 9) InterSea Exports Corporation; 10) Kadalkanny Frozen Foods; 11) Lotus Sea Farms; 12) National Steel; 13) National Steel & Agro Ind.; 14) Nsil Exports; 15) Premier Marine Foods; 16) R.F. Exports; and 17) Vaibhav Sea Foods.

In April 2007, the Department initiated an administrative review for 313 companies and we requested that each provide data on the quantity and value of its exports of subject merchandise to the United States during the POR. These companies are listed in the Department's notice of initiation. See Notice of Initiation of Administrative Reviews of the Antidumping Duty Orders on Certain Frozen Warmwater Shrimp From Brazil, Ecuador, India and Thailand, 72 FR 17100, 17102-17107 (Apr. 6, 2007) (Notice of Initiation).

In addition, between April and July 2007, the Department received responses to quantity and value questionnaires from certain companies that indicated that they either: 1) had no shipments of subject merchandise to the United States during the POR; or 2) were duplicated in the Notice of Initiation.

On July 5, 2007, in accordance with 19 CFR 351.213(d)(1), the LSA withdrew its request for review for 17 companies (i.e, Amison Foods Ltd.; Amison Seafoods Ltd.; Baby Marine (Eastern) Exports; Baby Marine Exports; Baby Marine Products; Cherukattu Industries (Marine Div.); Global Sea Foods & Hotels Ltd.; HA & R Enterprises; InterSea Exports Corporation; Kadalkanny Frozen Foods; Lotus Sea Farms; National Steel; National Steel & Agro Ind.; Nsil Exports; Premier Marine Foods; R.F. Exports; and Vaibhav Sea Foods).

Partial Rescission of Review

As noted above, the petitioner and the LSA both withdrew their requests for an administrative review for each of the following companies within the time limits set forth in 19 CFR 351.213(d)(1): Amison Foods Ltd.; Amison Seafoods Ltd.; Baby Marine (Eastern) Exports; Baby Marine Exports; Baby Marine Products; Cherukattu Industries (Marine Div.); Global Sea Foods & Hotels Ltd.; HA & R Enterprises; InterSea Exports Corporation; Lotus Sea Farms; National Steel; National Steel & Agro Ind.; Nsil Exports; Premier Marine Foods; R.F. Exports; and Vaibhav Sea Foods. Section 351.213(d)(1) of the Department's regulations requires that the Secretary rescind an administrative review if a party requesting a review withdraws the request within 90 days of the date of publication of the notice of initiation. Therefore, because all requests for administrative reviews were timely withdrawn for the companies listed above, in accordance with 19 CFR 351.213(d)(1), we are rescinding this review with regard to these companies.²

² Moreover, as noted above, the petitioner and the LSA also withdrew their requests for an administrative review for an exporter named Kadalkanny Frozen Foods. However, on April 23, 2007, Kadalkanny Frozen Foods informed the Department that it is a member of an affiliated group of companies (hereinafter referred to as "the Kadalkanny Group"). On December 20, 2007, the Department collapsed the members of the Kadalkanny Group. Because there are outstanding requests for review for the remaining members of this group, we are not rescinding the review for Kadalkanny Frozen Foods.

In addition, in accordance with 19 CFR 351.213(d)(3), we are rescinding the review with respect to the following 70 companies because these companies reported no shipments of subject merchandise during the POR:

1) Abad Fisheries

2) Accelerated Freeze Drying Co.

3) Allana Frozen Foods Pvt. Ltd.

4) Allanasons Ltd.

5) Amalgam Foods & Beverages Limited

6) Amulya Sea Foods

7) Anjaneya Seafoods

8) Baby Marine International

9) Bhavani Seafoods

10) Bijaya Marine Products

11) Blue Water Foods & Exports

12) BMR Exports

13) Britto Exports

14) C P Aquaculture (India) Ltd.

15) Capithan Exporting Co

16) Chemmeens (Regd.)

17) Coastal Corporation Ltd.

18) Cochin Frozen Food Exports Pvt. Ltd.

19) Corlim Marine Exports Pvt. Ltd.

20) Esmario Export Enterprises

21) Forstar Frozen Foods Pvt. Ltd.

22) Frigerio Conserva Allana Limited

23) Frontline Exports Pvt. Ltd.

24) G A Randerian Ltd.

25) GKS Business Associates Pvt. Ltd.

26) Geo Aquatic Products (P) Ltd.

27) Geo Seafoods

28) Grandtrust Overseas (P) Ltd.

29) HIC AFB Special Foods Pvt. Ltd.

30) Hiravata Ice & Cold Storage

31) Hiravati Exports Pvt. Ltd.

32) Hiravati International P. Ltd.

33) Indian Aquatic Products

34) Innovative Foods Limited/Amalgam Foods Ltd.

35) International Freezefish Exports

36) Interseas

37) Jagadeesh Marine Exports

38) Jinny Marine Traders

39) K R M Marine Exports Ltd.

40) Kalyanee Marine

41) Kay Kay Exports

42) Koluthara Exports Ltd.

43) L.G. Seafoods

44) Lewis Natural Foods Ltd.

45) Libran Cold Storages (P) Ltd.

46) M.S.C. Marine Exporters

47) Malnad Exports Pvt. Ltd.

48) Meenaxi Fisheries Pvt. Ltd.

49) Naga Hanuman Fish Packers

50) Naik Seafoods Ltd.

51) Pijikay International Exports P Ltd.

52) Pisces Seafood International

53) Raunaq Ice & Cold Storage

54) Raysons Aquatics Pvt. Ltd.

55) RBT Exports

56) Rohi Marine Private Ltd.

57) S Chanchala Combines

58) SSF Ltd.

59) Sagar Foods

60) Sagarvihar Fisheries Pvt. Ltd.

61) Sanchita Marine Products P Ltd.

62) Sawant Food Products

63) Silver Seafood

64) Sita Marine Exports

65) Sri Satya Marine Exports

66) Sri Venkata Padmavathi Marine Foods Pvt. Ltd.

67) Sterling Foods

68) TBR Exports Pvt Ltd.

69) Teekay Maine P. Ltd.

70) Victoria Marine & Agro Exports Ltd.

We reviewed U.S. Customs and Border Protection (CBP) data and confirmed that there were no entries of subject merchandise from any of these companies. Consequently, in accordance with 19 CFR 351.213(d)(3) and consistent with our practice, we are rescinding our review for the companies listed above. See, e.g., Certain Steel Concrete Reinforcing Bars From Turkey; Final Results and Rescission of Antidumping Duty Administrative Review in Part, 71 FR 65082, 65083 (Nov. 7, 2006) (Rebar from Turkey). See also Certain Frozen Warmwater Shrimp From India; Partial Rescission of Antidumping Duty Administrative Review, 71 FR 41419 (July 21, 2006).

Further, with respect to the following companies, the Department either: 1) was unable to locate accurate addresses for them, and thus was unable to serve them with any information requests in this case; or 2) determined based on information on the record that the noted company names do not, or no longer, exist³: 1) AMI Food Products; 2) Atta Export; 3) Brilliant Exports; 4) Castlerock Seafoods Ltd; 5) Coastal Trawlers Ltd.; 6) Hanjar Ice and Cold Storage; 7) Haripriya Marine Food Exports; 8) I Ahamed & Company; 9) KNR Marine Exports; 10) KRM Group; 11) Nezami Rekha Sea Food; 12) Pronto Foods Pvt. Ltd.; 13) RVR Marine Products; 14) Royal Cold Storage (India) Pvt. Ltd; 15) S B Agro (India) Ltd.; 16) Saanthi Seafoods Ltd.; 17) Sharon Exports; 18) Sheimar Seafoods Ltd.; 19) Sree Vaialakshrm Exports; 20) Swarna Seafoods Ltd.; and 21) Wisdom Marine Exports. See the June 1, 2007, Memorandum to the File from Elizabeth Eastwood entitled, “2006-2007 Antidumping Duty Administrative Review of Certain Frozen Warmwater Shrimp from Brazil, India, and Thailand: Information Regarding Incorrect Addresses.” See also the June 4, 2007, Memorandum to the File from Elizabeth Eastwood entitled, “Revisions to June 1, 2007, Memorandum Regarding Incorrect Addresses in the 2006-2007 Antidumping Duty Administrative Review of Certain Frozen Warmwater Shrimp from India.” Subsequently, we contacted the petitioner and the LSA and requested that they provide alternate addresses for these companies. For the companies noted above, we note that neither the petitioner nor the LSA was able to provide alternate addresses or, if they did provide additional address information, the new addresses continued to be “undeliverable.” Consequently, in accordance with our practice, we are also rescinding our review with respect to these companies. See Rebar from Turkey, 71 FR at 65083.

³ See the July 19, 2007, Memorandum from James Maeder to Stephen J. Claeys entitled, “2006-2007 Antidumping Duty Administrative Review of Certain Frozen Warmwater Shrimp from India: Selection of Respondents for Individual Review” at Attachment 6.

The Department has also received information that the following company names are duplicate names: 1) Innovative Foods Limited/Amalgam Foods Limited; 2) K.V. Marine Exports; 3) M.S.C. Marine Exporters; 4) Sprint Exports; and 5) Universal Cold Storage Ltd. These names are either: 1) partial versions of names of other companies for which we initiated an administrative review (i.e., Sprint Exports Pvt. Ltd. and Universal Cold Storage Private Limited); or 2) companies for which we initiated multiple administrative reviews because the petitioner, the LSA, and/or the respondent listed separate addresses for these companies in their review requests (i.e., Innovative Foods Limited/Amalgam Foods Limited⁴; M.S.C. Marine Exporters⁵; and K.V. Marine Exports). Therefore, we are also rescinding the review with respect to these duplicate company names/addresses.

⁴ We are rescinding our review with respect to Innovative Foods Limited/Amalgam Foods Limited because the company had no shipments during the POR. See page 5, above.

⁵ We are rescinding our review with respect to M.S.C. Marine Exporters because the company had no shipments during the POR. See page 5, above.

Finally, the Department received no-shipment responses from the following companies for which there appeared to be U.S. customs entries of subject merchandise: 1) Ayshwarya Seafood Private Limited; and 2) Triveni Fisheries (P) Ltd. We requested data on the relevant entries from CBP and determined that the entries were not reportable transactions because they were reported by another company in its quantity and value questionnaire. Under these circumstances, we determine that these companies satisfy the requirement under 19 CFR 351.213(d)(3) not to have “entries, exports, or sales of the subject merchandise,” and, consistent with the Department's practice, we are rescinding the review with respect to these companies. See, e.g., Certain Steel Concrete Reinforcing Bars From Turkey; Final Results, Rescission of Antidumping Duty Administrative Review in Part, and Determination to Revoke in Part, 70 FR 67665, 67666 (Nov. 8, 2005).

This notice is published in accordance with section 777(i) of the Tariff Act of 1930, as amended, and 19 CFR 351.213(d)(4).

Dated: January 25, 2008.
Stephen J. Claeys,
Deputy Assistant Secretary for Import Administration.

[FR Doc. E8-1895 Filed 1-31-08; 8:45 am]

BILLING CODE 3510-DR-S